DEPARTMENT OF THE INTERIOR

Bureau of Reclamation

[RX086349991000000, 14XR0680A2, 2142500]

Notice of Availability of the Draft Resource Management Plan and Environmental Impact Statement for the Contra Loma Reservoir and Recreation Area, Antioch, CA—Central Valley Project

AGENCY: Bureau of Reclamation, Interior.

ACTION: Notice.

SUMMARY: The Bureau of Reclamation (Reclamation) has prepared a Draft RMP/EIS for Contra Loma Reservoir and Recreation Area to establish uniform policy and land management guidelines that promote an organized use, development, and management of the Contra Loma Reservoir and the surrounding recreational area lands.

DATES: Submit written comments on the Draft RMP/EIS on or before July 1, 2014. A public meeting will be held on Monday, May 19 2014 from 5:30 p.m. to 7:30 p.m. to receive oral or written comments on the Draft RMP/EIS.

ADDRESSES: Written comments on the Draft RMP/EIS should be sent to Mr. David Woolley, Bureau of Reclamation, 1243 N Street, SCC-431, Fresno, California, 93720, or via email to dwoolley@usbr.gov. The public meeting will be held at Prewett Family Park and Community Center, 4801 Lone Tree Way, Antioch, California.

FOR FURTHER INFORMATION CONTACT: Mr. David Woolley, Bureau of Reclamation, at the above address, via email at dwoolley@usbr.gov, or at (559) 487-5049. The Draft RMP/EIS will be available from the following Web site: http://www.usbr.gov/mp/nepa/nepa_projdetails.cfm?Project_ID=6396. See the Supplementary Information section for locations where copies of the Draft RMP/EIS are available for public review.

SUPPLEMENTARY INFORMATION: The Draft RMP/EIS will guide future land resources management to ensure land and waters of the United States are maintained and protected as provided for under the authorizing purposes over a given period of time. This process is intended to establish uniform policy and land management guidelines that promote an organized use, development, and management of the Contra Loma Reservoir and the surrounding recreational area lands. These areas will be compatible with scenic surroundings and applicable Federal and State laws. An RMP incorporates into one document all the information pertinent to the future guidance of a management area and may serve as, but not limited to, the basis for future resource decision making for the management area. The RMP is to chart the biological, physical, and social condition that Reclamation desires to see once all the RMP management actions have been implemented. In addition, the RMP provides sufficient detailed ways to efficiently and equitably provide recreational opportunities to meet public demand within its intended planning lifespan.

Copies of the RMP/DEIS are available for public review at the following locations:

• Antioch Library, Antioch, CA 94509.

• Natural Resources Library, Department of the Interior, 1849 C Street NW., Main Interior Building, Washington, DC 20240.

• Bureau of Reclamation, South Central California Area Office, 1243 N Street, Fresno, CA 93720.

• Mid-Pacific Regional Library, Bureau of Reclamation, 2800 Cottage Way, Sacramento, CA 95825.

Special Assistance for Public Meetings

If special assistance is required to participate in the public meeting, please contact Ms. Sheryl Carter at 559-487-5299, or via email at scarter@usbr.gov. A telephone device for the hearing impaired (TTY) is available at 800-735-2929.

Public Disclosure

Before including your address, phone number, email address, or other personal identifying information in your comment, you should be aware that your entire comment—including your personal identifying information—may be made publicly available at any time. While you can ask us in your comment to withhold your personal identifying information from public review, we cannot guarantee that we will be able to do so.

Dated: February 27, 2014.
Pablo R. Arroyave,
Deputy Regional Director, Mid-Pacific Region.

[FR Doc. 2014-10057 Filed 5-1-14; 8:45 am]

BILLING CODE 4310-MN-P